DEPARTMENT OF ENERGY

Federal Energy Regulatory Commission

[Docket No. PR04-6-000]

Cranberry Pipeline Corporation; Notice of Telephone Technical Conference

July 9, 2004.

Take notice that a technical conference by telephone will be held on Friday, July 30, 2004, at 10 a.m. (e.s.t.), at the Federal Energy Regulatory Commission, 888 First St., NE., Washington, DC 20426, Room 3M-3. A telephone number to participate will be provided at a later date.

The purpose of the teleconference is to address Cranberry Pipeline Corporation's (Cranberry) section 311 petition for rate approval filed on December 16, 2003. Cranberry should be prepared to discuss cost of service and rate design issues.

For more information regarding this teleconference, please contact Jerilyn Stanley, Office of General Counsel—Market, tariffs and Rate, at (202) 502-8370 or jerilyn.stanley@ferc.gov.

Magalie R. Salas,
Secretary.

[FR Doc. E4-1586 Filed 7-14-04; 8:45 am]

BILLING CODE 6717-01-P